DEPARTMENT OF HEALTH AND HUMAN SERVICES

National Institutes of Health

Center for Scientific Review; Amended Notice of Meeting

Notice is hereby given of a change in the meeting of the Center for Scientific Review Special Emphasis Panel, March 10, 2015, 8:00 a.m. to March 10, 2015, 6:00 p.m., Residence Inn Bethesda, 7335 Wisconsin Avenue, Bethesda, MD 20814 which was published in the Federal Register on February 9, 2015, 80 FR 7004.

The meeting date has changed to April 14, 2015. The meeting time and location remain the same. The meeting is closed to the public.

Dated: February 10, 2015.
Melanie J. Gray,
Program Analyst, Office of Federal Advisory Committee Policy.

[FR Doc. 2015-03093 Filed 2-13-15; 8:45 am]

BILLING CODE 4140-01-P